DEPARTMENT OF COMMERCE

National Oceanic and Atmospheric Administration

Notice of Renewal of the Advisory Committee on Commercial Remote Sensing

SUMMARY: In accordance with the provisions of the Federal Advisory Committee Act, 5 U.S.C. App 2, and the General Services Administration (GSA) rule on Federal Advisory Committee Management, 41 CFR part 101-6, and after consultation with GSA, the Secretary of Commerce has determined that the renewal of the Advisory Committee on Commercial Remote Sensing (ACCRES) is in the public interest in connection with the performance of duties imposed on the Department by law. ACCRES was renewed on May 3, 2004.

SUPPLEMENTARY INFORMATION: The Committee was first established in May 2002, to advise the Under Secretary of Commerce for Oceans and Atmosphere on matters relating to the U.S. commercial remote-sensing industry and NOAA's activities to carry out the responsibilities of the Department of Commerce set forth in the Land Remote Sensing Policy Act of 1992 (15 U.S.C. Secs. 5621-5625).

The Committee will consist of no less than 12 but not more than 15 members serving in a representative capacity, each of whom shall be appointed by the Under Secretary to assure a balanced representation among remote sensing satellite operators, government and private users of data, and academia and researchers.

The Committee will function solely as an advisory body, and in compliance with provisions of the Federal Advisory Committee Act. Copies of the Committee's revised Charter have been filed with the appropriate committees of the Congress and with the Library of Congress.

FOR FURTHER INFORMATION CONTACT: Timothy Stryker, Chief, Satellite Activities Branch of the NOAA Satellite and Information Services Office of International and Interagency Affairs, 1335 East West Highway, Room 7311, Silver Spring, Maryland 20910; telephone (301) 713-2024 x205, fax (301) 713-2032, e-mail Timothy.Stryker@noaa.gov.

Colleen N. Hartman,
Deputy Assistant Administrator for Satellite and Information Services.

[FR Doc. 04-12674 Filed 6-3-04; 8:45 am]

BILLING CODE 3510-HR-P